DEPARTMENT OF COMMERCE

International Trade Administration

[C-570-944]

Certain Oil Country Tubular Goods From the People's Republic of China: Final Results of Countervailing Duty Administrative Review; 2012

AGENCY: Enforcement and Compliance, International Trade Administration, Department of Commerce.

SUMMARY: The Department of Commerce (the Department) has conducted an administrative review of the countervailing duty order on certain oil country tubular goods (OCTG) from the People's Republic of China (PRC). On February 25, 2014, the Department published the Preliminary Results for this administrative review.¹ The period of review (POR) is January 1, 2012, through December 31, 2012. We find that Wuxi Seamless Oil Pipe Co., Ltd. (Wuxi) and Jiangsu Chengde Steel Tube Share Co., Ltd. (Jiangsu Chengde) received countervailable subsidies during the POR.

¹ See Certain Oil Country Tubular Goods From the People's Republic of China: Partial Rescission and Preliminary Results of Countervailing Duty Administrative Review; 2012, 79 FR 10475 (Feb. 25, 2014).

DATES: Effective September 3, 2014.

FOR FURTHER INFORMATION CONTACT: Christopher Siepmann, Sergio Balbontin, or Joseph Shuler AD/CVD Operations, Office I, Enforcement and Compliance, International Trade Administration, U.S. Department of Commerce, 14th Street and Constitution Avenue NW., Washington, DC 20230; telephone: (202) 482-7958, (202) 482-6478, or (202) 482-1293 respectively.

SUPPLEMENTARY INFORMATION:

Scope of the Order

The scope of the order consists of OCTG. The merchandise subject to the order is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The OCTG coupling stock covered by the order may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00,, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, and 7304.59.80.80. Although the HTSUS subheadings are provided for convenience and customs purposes, the written description remains dispositive.

A full description of the scope of the OCTG Order is contained in the memorandum from Christian Marsh, Deputy Assistant Secretary for Antidumping and Countervailing Duty Operations to Paul Piquado, Assistant Secretary for Enforcement and Compliance, “Decision Memorandum for Final Results of Countervailing Duty Administrative Review: Certain Oil Country Tubular Goods from the People's Republic of China,” dated August 25, 2014 (Decision Memorandum), which is hereby adopted by this notice.

The Decision Memorandum is a public document and is on file electronically via Enforcement and Compliance's Antidumping and Countervailing Duty Centralized Electronic Service System (IA ACCESS). IA ACCESS is available to registered users at http://iaaccess.trade.gov and in the Central Records Unit, Room 7046 of the main Department of Commerce building. In addition, a complete version of the Decision Memorandum can be accessed directly on the internet at http://www.trade.gov/ia/. The signed Decision Memorandum and the electronic versions of the Decision Memorandum are identical in content.

Analysis of Comments Received

All issues raised in parties' briefs are addressed in the Decision Memorandum. A list of the issues raised is attached to this notice as an appendix.

Methodology

The Department has conducted this review in accordance with section 751(a)(1)(A) of the Tariff Act of 1930, as amended (the Act). For a full description of the methodology underlying our conclusions, including our decision to apply facts otherwise available with an adverse inference, see Decision Memorandum.

Final Results of the Review

As a result of this review, we determine a net subsidy rate of 59.29 percent for Wuxi and a net subsidy rate of 1.49 percent for Jiangsu Chengde for the period January 1, 2012, through December 31, 2012.

Producer/Exporter | Net subsidy rate (percent)
Wuxi Seamless Oil Pipe Co., Ltd.; Bazhou Seamless Oil Pipes Co. Ltd.; Liaoyang Seamless Oil Pipes Co. Ltd.; Mengfeng Special Steel Co. Ltd.; Songyuan Seamless Oil Pipes Co. Ltd | 59.29
Jiangsu Chengde Steel Tube Share Co., Ltd | 1.49

Assessment Rates

Upon issuance of these final results, the United States Customs and Border Protection (CBP) shall assess countervailing duties on all appropriate entries covered by this review. We intend to issue instructions to CBP 15 days after publication of these final results.

Cash Deposit Requirements

The Department also intends to instruct CBP to collect cash deposits of estimated countervailing duties in the amount listed above on shipments of subject merchandise by Wuxi or Jiangsu Chengde entered, or withdrawn from warehouse, for consumption on or after the date of publication of the final results of this review. For all non-reviewed companies, we will instruct CBP to continue to collect cash deposits at the most recent company-specific or country-wide rate applicable to the company. Accordingly, the cash deposit rates that will be applied to companies covered by the order, but not examined in this review, are those established in the most recently completed segment of the proceeding for each company.² These cash deposit requirements, when imposed, shall remain in effect until further notice.

² See OCTG Order.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

This administrative review and notice are in accordance with sections 751(a)(1) and 777(i) of the Act and 19 CFR 351.213.

Dated: August 25, 2014.
Paul Piquado,
Assistant Secretary for Enforcement and Compliance.

Appendix

List of Topics Discussed in the Decision Memorandum:

1. Scope of the Order

2. Use of Facts Otherwise Available and Adverse Inferences

3. Subsidies Valuation Information

4. Analysis of Programs

5. Analysis of Comments

Comments

A. Application of the CVD Law

Comment 1: Application of CVDs to Imports from NME Countries

Comment 2: Simultaneous Application of CVD and AD NME Measures

B. New Subsidy Allegation Programs

Comment 3: Application of AFA for WSP's Failure to Respond to Questionnaires Regarding New Subsidy Allegation Programs and Uncreditworthiness

Comment 4: Whether the Department Should Have Investigated the Program “Preferential Financial Support to Bazhou Seamless”

C. Provision of Electricity for LTAR

Comment 5: Whether the Provision of Electricity for LTAR is Countervailable

D. Provision of Steel Rounds for LTAR

Comment 6: Whether Majority State-Owned Producers of Steel Rounds are “Authorities”

Comment 7: Relevance of CCP Affiliations to Whether a Company is a GOC “Authority”

Comment 8: Sufficiency of Record Information for “Authorities” Analysis

Comment 9: Whether the Provision of Steel Rounds for LTAR is Specific

Comment 10: Benchmark Issues

E. Policy Lending

Comment 11: Whether Loans to the Respondents Are Specific

Comment 12: Whether a Financial Contribution Exists and SOCBs are Authorities

Comment 13: Use of an In-Country or External Loan Benchmark

Comment 14: Whether the Department Should Have Accepted WSP's Untimely-Filed Loans

Comment 15: The Appropriate AFA Rate for WSP's Policy Loans

[FR Doc. 2014-20984 Filed 9-2-14; 8:45 am]

BILLING CODE 3510-DS-P